DEPARTMENT OF TRANSPORTATION

Federal Aviation Administration

14 CFR Part 71

[Docket No. FAA-2019-0660; Airspace Docket No. 18-AWP-13]

RIN 2120-AA66

Amendment and Establishment of Multiple Air Traffic Service Routes; Western United States

AGENCY: Federal Aviation Administration (FAA), DOT.

ACTION: Final rule.

SUMMARY: This action modifies two high altitude United States Area Navigation (RNAV) Air Traffic Service (ATS) routes (Q-13 and Q-15), establishes one high altitude RNAV ATS route (Q-174), and establishes five low altitude RNAV ATS routes (T-338, T-357, T-359, T-361, and T-363) in the western United States. These Q and T routes facilitate the movement of aircraft to, from, and through the Las Vegas terminal area. Additionally, the routes promote operational efficiencies for users and provide connectivity to RNAV enroute procedures while enhancing capacity for adjacent airports.

DATES: Effective date 0901 UTC, February 25, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records

Administration (NARA). For information on the availability of FAA Order 7400.11E at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it supports modifying, removing, and establishing the air traffic service route structure in the western United States to maintain the efficient flow of air traffic.

History

The FAA published a notice of proposed rulemaking in the Federal Register for Docket No. FAA-2019-0660 (84 FR 50800; September 26, 2019), to amend two high altitude RNAV ATS routes (Q-13 and Q-15), establish one high altitude RNAV ATS route (Q-174), and establish five low altitude RNAV ATS routes (T-338, T-357, T-359, T-361, and T-363) in the western United States. Interested parties were invited to participate in this rulemaking effort by submitting written comments on the proposal. No comments were received.

United States Area Navigation Routes are published in paragraph 2006 and 6011, of FAA Order 7400.11E dated July 21, 2020, and effective September 15, 2020, which is incorporated by reference in 14 CFR 71.1. The RNAV routes listed in this document will be subsequently published in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This action amends Title 14 Code of Federal Regulations (14 CFR) part 71 by amending high altitude RNAV ATS routes Q-13 and Q-15; establishing high altitude RNAV ATS route Q-174, and establishing low altitude RNAV ATS routes T-338, T-357, T-359, T-361, and T-363. The route changes are outlined below.

Q-13: Q-13 is amended to begin at the El Paso, TX, VORTAC (ELP) and end at the PAWLI, OR, waypoint (WP). Moving Q-13 to the west and beginning the route at the El Paso, TX, VORTAC (ELP) segregates overflight traffic on Q-13 from McCarran International Airport (KLAS) arrival and departure traffic on the new KLAS COKTL Standard Terminal Arrival Route (STAR) and KLAS JOHKR Standard Instrument Departure (SID). By segregating the Q-route from inbound and outbound traffic, KLAS departures can be assigned requested altitudes sooner. This also allows Oakland Air Route Traffic Control Center (ARTCC) to deliver KLAS arrival traffic to Los Angeles ARTCC at higher altitudes than current state, and provides the opportunity for optimized profile descents.

Q-15: Q-15 is amended to add the SOTOO, NV, WP; the HOUZZ, NV, WP; FUULL, NV, WP; and the SKANN, NV, WP between the DOVEE, NV, WP and the LOMIA, NV, WP. The purpose of this routing is to segregate overflight traffic on Q-15 from Las Vegas McCarran (KLAS) arrival and departure traffic.

Q-174: Q-174 is established between the NTELL, CA, WP to the FLCHR, NV, WP. Q-174 provides connectivity from the California Bay Area airports to Las Vegas McCarran and North Las Vegas airports. This route also provides an efficient path to navigate around active special use airspace and facilitate arrival sequencing to Las Vegas McCarran and satellite airports.

T-338: T-338 is established between the DSIRE, NV, WP to the BOEGY, AZ, WP. T-338 provides a lateral path for arrivals and departures to the North Las Vegas Airport (KVGT), Boulder City Municipal Airport (KBVU) and KLAS. Additionally, it serves propeller aircraft arriving at KVGT and KLAS from points east or that are departing from KVGT and KLAS to points east.

T-357: T-357 is established between the KONNG, NV, WP to the DSIRE, NV, WP. T-357 provides a predictable and repeatable path for overflights through the Las Vegas TRACON airspace and serves as an arrival/departure airway for KVGT, Henderson Executive Airport (KHND), KBVU, and KLAS aircraft.

T-359: T-359 is established from the DANBY, CA, WP to the DSIRE, NV, WP. T-359 provides a predictable and repeatable path for overflights through the Las Vegas TRACON airspace and serve as an arrival/departure airway for KVGT, KHND, KBVU, and KLAS aircraft. T-359 reduces the current requirement for air traffic control facilities to issue radar vectors or itinerant routing for KVGT arrivals/departures or overflights.

T-361: T-361 is established from the BOEGY, AZ, WP to the Mormon Mesa, NV, VORTAC (MMM). T-361 provides a predictable and repeatable flight path for aircraft flying through the Las Vegas TRACON airspace and to serve as an arrival/departure airway for KLAS, KVGT, KBVU, and KHND. T-361 reduces the current requirement for air traffic control facilities to issue radar vectors or itinerant routing for KLAS and KHND.

T-363: T-363 is established from the DICSA, NV, FIX to the Mormon Mesa, NV, VORTAC (MMM). T-363 provides a predictable and repeatable path for propeller-driven arrivals and departures to and from KHND, KBVU, and KLAS to and from points north and northeast.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that the actions of amending two high RNAV ATS routes (Q-13 and Q-15), establishing one high RNAV ATS route (Q-174) in the western United States qualify for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, these actions are not expected to cause any potentially significant environmental impacts. In accordance with FAA Order 1050.1F, paragraph 5-2 regarding Extraordinary Circumstances, the FAA has reviewed these actions for factors and circumstances in which a normally categorically excluded action may have a significant environmental impact requiring further analysis. The FAA has determined that no extraordinary circumstances exist warranting preparation of an environmental assessment or environmental impact study for the amendments of RNAV ATS routes Q-13 and Q-15, or the establishment Q-174. Environmental impact review of these Q routes was separately conducted and documented in a Categorical Exclusion Declaration document signed on June 15, 2020. The establishment of five low altitude RNAV ATS routes (T-338, T-357, T-359, T-361, and T-363) in the western U.S. was reviewed and analyzed for potential environmental impacts in the FAA's Environmental Assessment (EA) and Finding of No Significant Impact (FONSI) for The Las Vegas Metroplex Project, signed on July 7, 2020. The EA, FONSI, and Notice of Availability can be found at http://www.metroplexenvironmental.com/las_metroplex/las_docs.html.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020 and effective September 15, 2020, is amended as follows:

Paragraph 2006 United States Area Navigation Routes.

* * * * *

Q-13 El Paso, TX (ELP) to PAWLI, OR [Amended]
El Paso, TX (ELP) | VORTAC | (Lat. 31°48′57.28″ N, long. 106°16′54.78″ W)
VERNO, AZ | FIX | (Lat. 34°15′38.47″ N, long. 109°37′37.98″ W)
NABOB, AZ | FIX | (Lat. 34°19′40.60″ N, long. 111°18′53.90″ W)
Drake, AZ (DRK) | VORTAC | (Lat. 34°42′09.19″ N, long. 112°28′49.23″ W)
WOTRO, AZ | WP | (Lat. 35°10′07.89″ N, long. 113°19′15.68″ W)
PRFUM, AZ | WP | (Lat. 35°30′24.46″ N, long. 113°56′34.85″ W)
HOUZZ, NV | WP | (Lat. 36°36′43.75″ N, long. 116°36′37.60″ W)
FUULL, NV | WP | (Lat. 37°16′52.93″ N, long. 117°10′13.96″ W)
SKANN, NV | WP | (Lat. 37°22′52.68″ N, long. 117°15′54.53″ W)
LOMIA, NV | WP | (Lat. 39°13′11.57″ N, long. 119°06′22.95″ W)
RUFUS, CA | WP | (Lat. 41°26′00.00″ N, long. 120°00′00.00″ W)
PAWLI, OR | WP | (Lat. 43°10′48.00″ N, long. 120°55′50.00″ W)
* * * * * * *
Q-15 DOVEE, NV to LOMIA, NV [Amended]
CHILY, AZ | WP | (Lat. 34°42′48.61″ N, long. 112°45′42.27″ W)
DOVEE, NV | WP | (Lat. 35°26′51.07″ N, long. 114°48′00.94″ W)
SOTOO, NV | WP | (Lat. 36°17′22.55″ N, long. 116°13′14.12″ W)
HOUZZ, NV | WP | (Lat. 36°36′43.75″ N, long. 116°36′37.60″ W)
FUULL, NV | WP | (Lat. 37°16′52.93″ N, long. 117°10′13.96″ W)
SKANN, NV | WP | (Lat. 37°22′52.68″ N, long. 117°15′54.53″ W)
LOMIA, NV | WP | (Lat. 39°13′11.57″ N, long. 119°06′22.95″ W)
* * * * * * *
Q-174 NTELL, CA to FLCHR, NV [New]
NTELL, CA | WP | (Lat. 36°53′58.99″ N, long. 119°53′22.21″ W)
CABAB, CA | WP | (Lat. 37°16′36.00″ N, long. 118°43′12.00″ W)
TTMSN, CA | WP | (Lat. 37°21′11.49″ N, long. 117°40′54.51″ W)
SKANN, NV | WP | (Lat. 37°22′52.68″ N, long. 117°15′54.53″ W)
FLCHR, NV | WP | (Lat. 37°06′02.27″ N, long. 116°52′31.36″ W)

* * * * *

Paragraph 6011 United States Area Navigation Routes.

* * * * *

T-338 DSIRE, NV to BOEGY, AZ [New]
DSIRE, NV | WP | (Lat. 36°13′40.62″ N, long. 115°14′26.15″ W)
LNDIN, NV | WP | (Lat. 36°13′03.54″ N, long. 114°50′39.84″ W)
WYLND, NV | WP | (Lat. 36°09′26.64″ N, long. 114°24′58.20″ W)
BOEGY, AZ | WP | (Lat. 36°05′21.17″ N, long. 114°03′33.41″ W)
* * * * * * *
T-357 KONNG, NV to DSIRE, NV [New]
KONNG, NV | WP | (Lat. 35°27′39.39″ N, long. 114°57′02.15″ W)
DICSA, NV | FIX | (Lat. 35°52′05.33″ N, long. 115°02′15.10″ W)
WANDR, NV | WP | (Lat. 36°05′33.54″ N, long. 115°06′40.87″ W)
DSIRE, NV | WP | (Lat. 36°13′40.62″ N, long. 115°14′26.15″ W)
* * * * * * *
T-359 DANBY, CA to DSIRE, NV [New]
DANBY, CA | FIX | (Lat. 35°18′41.17″ N, long. 115°47′09.11″ W)
DICSA, NV | FIX | (Lat. 35°52′05.33″ N, long. 115°02′15.10″ W)
RAATT, NV | WP | (Lat. 36°04′42.74″ N, long. 115°13′04.33″ W)
DSIRE, NV | WP | (Lat. 36°13′40.62″ N, long. 115°14′26.15″ W)
* * * * * * *
T-361 BOEGY, AZ to MORMON MESA, NV [New]
BOEGY, AZ | WP | (Lat. 36°05′21.17″ N, long. 114°03′33.41″ W)
PUTTT, AZ | WP | (Lat. 35°50′09.62″ N, long. 114°40′35.63″ W)
DICSA, NV | FIX | (Lat. 35°52′05.33″ N, long. 115°02′15.10″ W)
WANDR, NV | WP | (Lat. 36°05′33.54″ N, long. 115°06′40.87″ W)
LNDIN, NV | WP | (Lat. 36°13′03.54″ N, long. 114°50′39.84″ W)
SHIEK, NV | WP | (Lat. 36°24′00.96″ N, long. 114°27′01.91″ W)
Mormon Mesa, NV, (MMM) | VORTAC | (Lat. 36°46′09.31″ N, long. 114°16′38.83″ W)
T-363 DICSA, NV, to Mormon Mesa, NV (MMM) [New]
DICSA, NV | FIX | (Lat. 35°52′05.33″ N, long. 115°02′15.10″ W)
PUTTT, AZ | WP | (Lat. 35°50′09.62″ N, long. 114°40′35.63″ W)
SHIEK, NV | WP | (Lat. 36°24′00.96″ N, long. 114°27′01.91″ W)
MORMON MESA, NV (MMM) | VORTAC | (Lat. 36°46′09.31″ N, long. 114°16′38.83″ W)

Issued in Washington, DC, on December 7, 2020.
George Gonzalez,
Acting Manager, Rules and Regulations Group.

[FR Doc. 2020-27339 Filed 12-11-20; 8:45 am]

BILLING CODE 4910-13-P